DEPARTMENT OF TRANSPORTATION

Federal Aviation Administration

14 CFR Part 39

[Docket No. FAA-2006-26355; Directorate Identifier 2006-NM-198-AD; Amendment 39-14953; AD 2007-04-21]

RIN 2120-AA64

Airworthiness Directives; Fokker Model F.28 Mark 0070 and 0100 Airplanes

AGENCY: Federal Aviation Administration (FAA), Department of Transportation (DOT).

ACTION: Final rule.

SUMMARY: The FAA is adopting a new airworthiness directive (AD) for all Fokker Model F.28 Mark 0070 and 0100 airplanes. This AD requires a one-time inspection of the fuel lines located in the left and right main landing gear (MLG) bays to determine the clearance between the fuel and hydraulic lines. If necessary, this AD also requires an inspection of fuel lines for chafing, the replacement of a chafed fuel line with a new fuel line, and the repositioning of existing clamps and installation of additional clamps between the fuel and hydraulic lines. This AD results from a fuel leak found in the left MLG bay. We are issuing this AD to detect and correct inadequate clearance between fuel and hydraulic lines in the MLG bay, which could lead to chafing of a fuel line and fuel leakage. A fuel leak near hot brakes could result in a fire in the MLG bay.

DATES: This AD becomes effective April 3, 2007.

The Director of the Federal Register approved the incorporation by reference of a certain publication listed in the AD as of April 3, 2007.

ADDRESSES: You may examine the AD docket on the Internet at http://dms.dot.gov or in person at the Docket Management Facility, U.S. Department of Transportation, 400 Seventh Street SW., Nassif Building, Room PL-401, Washington, DC.

Contact Fokker Services B.V., Technical Services Dept., P.O. Box 231, 2150 AE Nieuw-Vennep, the Netherlands, for service information identified in this AD.

FOR FURTHER INFORMATION CONTACT: Tom Rodriguez, Aerospace Engineer, International Branch, ANM-116, FAA, Transport Airplane Directorate, 1601 Lind Avenue, SW., Renton, Washington 98057-3356; telephone (425) 227-1137; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to all Fokker Model F.28 Mark 0070 and 0100 airplanes. That NPRM was published in the Federal Register on November 20, 2006 (71 FR 67077). That NPRM proposed to require a one-time inspection of the fuel lines located in the left and right main landing gear bays to determine the clearance between the fuel and hydraulic lines. If necessary, that NPRM proposed to require an inspection of fuel lines for chafing, the replacement of a chafed fuel line with a new fuel line, and the repositioning of existing clamps and installation of additional clamps between the fuel and hydraulic lines.

Comments

We provided the public the opportunity to participate in the development of this AD. We received no comments on the NPRM or on the determination of the cost to the public.

Conclusion

We have carefully reviewed the available data and determined that air safety and the public interest require adopting the AD as proposed.

Costs of Compliance

This AD affects about 9 airplanes of U.S. registry. The required inspection takes about 1 work hour per airplane, at an average labor rate of $80 per work hour. Based on these figures, the estimated cost of this AD for U.S. operators is $720, or $80 per airplane.

Authority for this Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2007-04-21 Fokker Services B.V.: Amendment 39-14953. Docket No. FAA-2006-26355; Directorate Identifier 2006-NM-198-AD.

Effective Date

(a) This AD becomes effective April 3, 2007.

Affected ADs

(b) None.

Applicability

(c) This AD applies to all Fokker Model F.28 Mark 0070 and 0100 airplanes, certificated in any category.

Unsafe Condition

(d) This AD results from a fuel leak found in the left main landing gear (MLG) bay. We are issuing this AD to detect and correct inadequate clearance between fuel and hydraulic lines in the MLG bay, which could lead to chafing of a fuel line and fuel leakage. A fuel leak near hot brakes could result in a fire in the MLG bay.

Compliance

(e) You are responsible for having the actions required by this AD performed within the compliance times specified, unless the actions have already been done.

Inspections for Clearance and Chafing

(f) Within 6 months after the effective date of this AD, do a general visual inspection of the fuel lines located in the left and right MLG bays to determine the clearance between the fuel and hydraulic lines, in accordance with Part 1 of the Accomplishment Instructions of Fokker Service Bulletin SBF100-28-041, dated July 20, 2005. If the clearance of a fuel line is 3 mm (millimeters) or more, no further action is required by this AD for that fuel line only. If the clearance of a fuel line is less than 3 mm, before further flight, do a general visual inspection of the fuel line for chafing in accordance with Part 1 of the Accomplishment Instructions of the service bulletin.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Corrective Actions

(g) If the fuel line is found chafed during the inspection for chafing specified in paragraph (f) of this AD, before further flight after that inspection, do the actions in paragraphs (g)(1) and (g)(2) of this AD. If the fuel line is not found chafed, within 6 months after the inspection for chafing, do the actions in paragraph (g)(2) of this AD.

(1) Replace the chafed fuel line with a new fuel line in accordance with Part 1 of the Accomplishment Instructions of Fokker Service Bulletin SBF100-28-041, dated July 20, 2005.

(2) Reposition the existing clamps and install additional clamps to obtain a minimum clearance of 3 mm between the fuel and hydraulic lines, as applicable, in accordance with Part 2 of the Accomplishment Instructions of Fokker Service Bulletin SBF100-28-041, dated July 20, 2005.

Alternative Methods of Compliance (AMOCs)

(h)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(i) Dutch airworthiness directive NL-2005-010 R1, dated September 7, 2005, also addresses the subject of this AD.

Material Incorporated by Reference

(j) You must use Fokker Service Bulletin SBF100-28-041, dated July 20, 2005, to perform the actions that are required by this AD, unless the AD specifies otherwise. The Director of the Federal Register approved the incorporation by reference of this document in accordance with 5 U.S.C. 552(a) and 1 CFR part 51. Contact Fokker Services B.V., Technical Services Dept., P.O. Box 231, 2150 AE Nieuw-Vennep, the Netherlands, for a copy of this service information. You may review copies at the FAA, Transport Airplane Directorate, 1601 Lind Avenue, SW., Renton, Washington; or at the National Archives and Records Administration (NARA). For information on the availability of this material at NARA, call 202-741-6030, or go to: http://www.archives.gov/federal-register/cfr/ibr-locations.html.

Issued in Renton, Washington, on February 12, 2007.
Ali Bahrami,
Manager, Transport Airplane Directorate, Aircraft Certification Service.

[FR Doc. E7-2978 Filed 2-26-07; 8:45 am]

BILLING CODE 4910-13-P